DEPARTMENT OF THE TREASURY

Alcohol and Tobacco Tax and Trade Bureau

[Notice No. 26]

Miscellaneous Trade and Technical Corrections Act of 2004; Meeting on New Certification Requirements for Imported Wine

AGENCY: Alcohol and Tobacco Tax and Trade Bureau, Treasury.

ACTION: Notice of meeting.

SUMMARY: The Alcohol and Tobacco Tax and Trade Bureau will hold a public meeting to provide information on implementation of the new certification requirements for imported wine contained in section 2002 of the Miscellaneous Trade and Technical Corrections Act of 2004. The meeting is open to the public.

DATES: The meeting is scheduled for December 15, 2004, from 2 p.m. to 4 p.m. We must receive written comments regarding implementation of the statute on or before January 15, 2005.

ADDRESSES: The meeting will be held at the Treasury Executive Institute, 801 9th Street, NW., Washington, DC 20220.

You may submit written comments or suggestions at the meeting, or you may send them to any of the following addresses:

• Chief, Regulations and Procedures Division, Alcohol and Tobacco Tax and Trade Bureau, Attn: Notice No. 26, P.O. Box 14412, Washington, DC 20044-4412.

• nprm@ttb.gov (e-mail).

• (202) 927-8525 (facsimile). To ensure electronic access to our equipment, we cannot accept faxed comments that exceed five pages.

FOR FURTHER INFORMATION CONTACT: Alcohol and Tobacco Tax and Trade Bureau, International Trade Division, by telephone at (202) 927-8110; by fax at (202) 927-8605; or by e-mail at itd@ttb.treas.gov.

SUPPLEMENTARY INFORMATION:

Background

On November 23, 2004, Congress transmitted the Miscellaneous Trade and Technical Corrections Act of 2004 (the Act) to President Bush for signature. Section 2002 of the Act would amend section 5382(a) of the Internal Revenue Code of 1986 (IRC), 26 U.S.C. 5382(a), which sets forth standards regarding what constitutes proper cellar treatment of natural wine. The Alcohol and Tobacco Tax and Trade Bureau (TTB) is responsible for the administration of the IRC provisions relating to wine.

The amendment to section 5382(a) would add a certification requirement regarding production practices and procedures for imported wine. Under the amended statute, for wine produced after December 31, 2004, the Secretary of the Treasury will accept the practices and procedures used to produce the wine, if, at the time of importation, one of the following conditions is met:

1. The Secretary has on file or is provided with a certification from the government of the producing country, accompanied by an affirmed laboratory analysis, that the practices and procedures used to produce the wine constitute proper cellar treatment;

2. The Secretary has on file or is provided with a certification, if any, as may be required by an international agreement or treaty specifying practices and procedures acceptable to the United States; or

3. In the case of an importer that owns or controls or has an affiliate that owns or controls a winery operating under a basic permit issued by the Secretary, the importer certifies that the practices and procedures used to produce the wine constitute proper cellar treatment.

Public Meeting

In anticipation of the President's signing this legislation into law, TTB has determined that it would be appropriate to hold a public meeting to discuss these developments. The purpose of the meeting is to advise the public of TTB's plans for implementation of the new certification requirements and to answer any questions the public may have regarding this provision.

The meeting will be held on December 15, 2004, from 2 p.m. to 4 p.m. at the Treasury Executive Institute, 801 9th Street, NW., Washington, DC 20220. Due to limited space, admittance will be on a first-come basis.

Submission of Comments

No written record of the meeting will be maintained. Therefore, comments or suggestions made at the meeting must be submitted in writing in order to be considered part of the agency record. All written comments and submitted materials are part of the public record and subject to disclosure. Do not provide any material in your comments that you consider confidential or inappropriate for public disclosure.

Members of the public who wish to submit written comments after the meeting must do so no later than January 15, 2005. All comments must include this notice number and your name and mailing address. Your comments must be legible and written in language acceptable for public disclosure. We do not acknowledge receipt of comments, and we regard all comments as originals.

In the near future, TTB anticipates issuing a temporary rule with an opportunity for further comment.

Dated: December 6, 2004.
Arthur J. Libertucci,
Administrator.

[FR Doc. 04-27105 Filed 12-9-04; 8:45 am]

BILLING CODE 4810-31-P